DEPARTMENT OF THE INTERIOR

Fish and Wildlife Service

Noxubee National Wildlife Refuge

AGENCY: Fish and Wildlife Service, Department of the Interior.

ACTION: Notice of availability of the Draft Comprehensive Conservation Plan and Environmental Assessment for Noxubee National Wildlife Refuge located in Noxubee, Oktibbeha, and Winston Counties, Mississippi.

SUMMARY: The Fish and Wildlife Service announces that a Draft Comprehensive Conservation Plan and Environmental Assessment for Noxubee National Wildlife Refuge are available for review and comment. These documents have been prepared pursuant to the National Wildlife Refuge System Improvement Act of 1997, and the National Environmental Policy Act of 1969, and describe the Service's proposal for managing the refuge over the next 15 years. Proposed goals for the refuge include:

• Perpetuating a diversity of high quality, more natural-like communities as habitats for trust and resident species;

• Continuing to protect, maintain, and enhance native plant and animal species;

• Improving conditions for fish, wildlife, habitats, special management areas, and wilderness through the use of current land protection programs, laws, policies, and partnerships;

• Developing recreation and education opportunities that promote fish and wildlife conservation consistent with the Service's mission and policies, and the purpose for which the refuge was established;

• Protecting the cultural resources of the refuge; and

• Developing and maintaining a comprehensive refuge facility responsive to supporting the management of fish and wildlife resources, and the safety and experience of refuge visitors.

Also available for review are the draft compatibility determinations for recreational hunting, recreational fishing, wildlife observation and photography, environmental education and interpretation, forest habitat management, haying, and research and collections.

Proposed Action

The proposed action is to adopt and implement a comprehensive conservation plan for the refuge that best achieves the refuge's purpose, vision, and goals; contributes to the National Wildlife Refuge System mission; addresses the significant issues and relevant mandates; and is consistent with principles of sound fish and wildlife management. The Service analyzed three alternatives for future management of the refuge and chose Alternative 2, as the one to best achieve all of these elements.

Alternatives

The draft comprehensive conservation plan and environmental assessment evaluates the three alternatives for managing the refuge over the next 15 years. These alternatives are briefly described as follows:

Alternative I represents the status quo; e.g., no changes from current management of the refuge. The refuge would continue with its existing forest management plan that emphasizes older age classes of trees and late successional wildlife communities. Waters and wetlands would be managed under current policies. Cultural resources would be protected at current levels.

Under Alternative 2, the Service's proposed action, wildlife and habitat would be managed with emphasis on old growth forest communities, and increasing emphasis on education and recreation programs. Refuge programs provide the public with an opportunity to learn about, enjoy, and appreciate fish and wildlife. these programs include hunting, fishing, wildlife observation and photography, and environmental education and interpretation. Deer hunting opportunities would continue in order to manage the population, and small game and waterfowl hunting opportunities would continue as well. Game fish populations at Bluff and Loakfoma lakes would be maintained to support an annual average of 13,000 angler-use days through natural reproduction, habitat management, regulated harvest, and stocking when appropriate. Under this alternative, the refuge would seek to maintain and improve overlooks, boardwalks and trails, and provide special guided and education program tours each season, with an objective of increasing interpretation activities to at least 15 events annually. The refuge would coordinate with the local school district and others to share expertise, host meetings at the environmental education center, refuge outdoor classroom, and off-site locations to support 15,000 students annually. This alternative emphasizes providing habitat for forest nesting birds dependent on mature hardwood forests and adequate habitat for resident and migratory waterfowl. Current partnerships that assist the refuge in accomplishing its conservation objectives would continue under this alternative, as would coordination with the Service's private lands' biologist to implement the Partners for Fish and Wildlife Program with local landowners and other conservation groups. Communication with local landowners and community groups would continue in order to promote wildlife conservation. A comprehensive cultural resources' survey would be conducted, and protection and interpretation of cultural resources would be improved.

Alternative 3 emphasizes providing early successional forest habitat and increases in certain education and recreation programs. Forest management of pine and pine/hardwood forests would be directed towards providing old growth adequate to support the refuge's goal for the redcockaded woodpecker, and for providing early successional habitat for neotropical migratory birds and certain game species. Management of the hardwood forest would also be directed towards providing early successional habitat.

Actions Common to All Alternatives

All three alternatives share the following management concepts and techniques for achieving the goals of the refuge:

• Restoring native habitats;

• Establishing, maintaining, and improving partnerships with landowners and local, state, and federal agencies and organizations;

• Coordinating management actions with local and state land and resource management agencies;

• Monitoring breeding red-cockaded woodpecker populations in partnership with others;

• Removing non-native invasive plants;

• Encouraging scientific research on the refuge; and

• Exploring expansion of the refuge boundary.

DATES: A meeting will be held at the refuge's education center to present the plan to the public. Mailings, newspaper articles, and postings on the refuge website will be the avenues to inform the public of the date and time for this meeting. Individuals wishing to comment on the Draft Comprehensive Conservation Plan and Environmental Assessment for Noxubee National Wildlife Refuge should do so within 60 days following the date of this notice. Public comments were requested, considered, and incorporated throughout the planning process in numerous ways. Public outreach has included public scoping meetings, technical workgroups, planning updates and a Federal Register notice.

ADDRESSES: Comments on the Draft Comprehensive Conservation Plan and Environmental Assessment should be addressed to Refuge Manager, Noxubee National Wildlife Refuge, 224 Office Road, Brooksville, Mississippi 39739. Comments may also be submitted via electronic mail to Noxubee@fws.gov. If you wish to submit comments by electronic mail, please submit them as an ASCII file, avoiding the use of special characters and any form of encryption. Please include your name and return address to your Internet message. If you do not receive a confirmation from the system that we have received your Internet message, contact us at the phone number or address listed in this notice. Our practice is to make comments, including names and home addresses of respondents, available for public review during regular business hours. Individuals respondents may request that we withhold their home addresses from the record, which we will honor to the extent allowable by law.

SUPPLEMENTARY INFORMATION: Noxubee National Wildlife Refuge, located in east-central Mississippi, consists of 47,959 acres, of which 42,500 acres are in bottomland hardwood, upland hardwood, mixed pine/hardwood, and pine forests. These forests support a variety of upland species including turkey, deer, and quail. The endangered red-cockaded woodpecker is found in the refuge's old-growth pine habitat. Many neotropical bird species benefit from refuge forests. Greentree reservoirs, natural ponds, and man-made impoundments provide important habitat for other migratory birds, as well as wintering habitat for waterfowl and bald eagles.

Annually, more than 150,000 visitors participate in refuge activities, including fishing, hunting, hiking, wildlife photography, wildlife observation, and environmental education and interpretation.

FOR FURTHER INFORMATION CONTACT: Refuge Manager, Noxubee National Wildlife Refuge at 662/323-5548; fax 662/323-5806, or by writing to the Refuge Manager at the above address.

Authority: This notice is published under the authority of the National Wildlife Refuge System Improvement Act of 1997, Public Law 105-57.

Dated: May 14, 2003.
J. Mitch King,
Acting Regional Director.

[FR Doc. 03-12710 Filed 5-20-03; 8:45 am]

BILLING CODE 4310-55-M